DEPARTMENT OF DEFENSE

Office of the Secretary

Charter Amendment of Department of Defense Federal Advisory Committees

AGENCY: Department of Defense.

ACTION: Amend Federal Advisory Committee charter.

SUMMARY: The Department of Defense (DoD) is publishing this notice to announce it is amending the charter for the Air University Board of Visitors.

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d). The amended charter and contact information for the Designated Federal Officer (DFO) can be obtained at http://www.facadatabase.gov/. The DoD is amending the charter for the Air University Board of Visitors (“the Board”) previously announced on page 22066 of the Federal Register, Volume 81, Number 72, dated April 14, 2016. The Board's charter is being amended to include a second permanent subcommittee and associated increases in the Board's estimated annual costs. The new subcommittee, the Community College of the Air Force (CCAF) Subcommittee, will provide independent assessments of operations at the CCAF and the impact and effectiveness of policies and procedures. The CCAF Subcommittee shall be composed of no more than 15 members who are experts in air power, defense, management, leadership, and academia. All other aspects of the Board's charter, as previously announced, will apply to the Board.

Dated: July 22, 2016.
Aaron Siegel,
Alternate OSD Federal Register Liaison Officer, Department of Defense.

[FR Doc. 2016-17777 Filed 7-26-16; 8:45 am]

BILLING CODE 5001-06-P